SOCIAL SECURITY ADMINISTRATION

Agency Information Collection Activities: Proposed Request, Comment Request and Correction Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA. Fax: 202-395-6974.

(SSA), Social Security Administration, DCFAM, Attn: Reports Clearance Officer, 1333 Annex Building, 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Certification by Religious Group—20 CFR 404.1075—0960-0093. Form SSA-1458 is used to determine if the religious group meets the qualifications set out in section 1402(g) of the Internal Revenue Code which permits members of certain religious groups and sects to be exempt from payment of Self-Employment Contribution Act taxes. The respondents are spokespersons for religious groups or sects.

Type of Request: Extension of an OMB-approved information collection.

Number of Respondents: 180.

Frequency of Response: 1.

Average Burden Per Response: 15 minutes.

Estimated Annual Burden: 45 hours.

2. Medical Consultant's Review of Mental Residual Functional Capacity Assessment—20 CFR 404.1520a, 404.1640, 404.1643, 404.1645, 416.920a—0960-0678. Form SSA-392-SUP is used by SSA's regional review component to facilitate the medical/psychological consultant's review of the Mental Residual Functional Capacity Form, SSA-4734-SUP. The SSA-392-SUP records the reviewing medical/psychological consultant's assessment of the SSA-4734-SUP prepared by the adjudicating component and also records whether the reviewer agrees or disagrees with the manner in which the SSA-4734-SUP was completed. The SSA-392-SUP is required for each SSA-4734-SUP form completed. The respondents are the 256 medical/psychological consultants responsible for reviewing the SSA-4734-SUP.

Type of Request: Extension of an OMB-approved information collection.

Number of Responses: 45,000.

Frequency of Response: 1.

Average Burden Per Response: 12 minutes.

Estimated Annual Burden: 9,000 hours.

3. Statement of Self-Employment Income—20 CFR 404.101, 404.110, 404.1096(a)-(d)—0960-0046. SSA uses the information on Form SSA-766 to expedite the payment of benefits to an individual who is self-employed and who is establishing insured status in the current year. Respondents are self-employed individuals who may be eligible for Social Security benefits.

Type of Request: Extension of an OMB-approved information collection.

Number of Respondents: 5,000.

Frequency of Response: 1.

Average Burden Per Response: 5 minutes.

Estimated Annual Burden: 417 hours.

4. Request for Deceased Individual's Social Security Record—20 CFR 402.130—0960-0665. The SSA-711 is used to process requests from the public for a microprint of the SS-5, Application for Social Security Card, for a deceased individual. Respondents are members of the public who are requesting deceased individuals' Social Security records.

Type of Request: Extension of an OMB-approved information collection.

Number of Respondents: 50,000.

Frequency of Response: 1.

Average Burden Per Response: 7 minutes.

Estimated Annual Burden: 5,834 hours.

5. Request for Business Entity Taxpayer Information—0960-NEW. The SSA-1694 will be used to collect information from law firms or other business entities that have partners or employees to whom SSA pays fees that have been authorized as compensation for the representation of claimants before SSA. SSA will collect the name of the firms and/or business entities, as well as their addresses and Employer Identification Numbers (EIN) to keep a record on file for tax purposes. This information will be used to meet any requirement for issuance of a Form 1099-MISC. The respondents are law firms or other business entities that have partners or employees that are attorneys or other qualified individuals who represent claimants before SSA.

Type of Request: Request for a new information collection.

Number of Respondents: 1,000.

Frequency of Response: 1.

Average Burden Per Response: 10 minutes.

Estimated Annual Burden: 167 hours.

6. Identifying Information for Possible Direct Payment of Authorized Fees—0960-NEW. The SSA-1695 will be used to collect information from appointed representatives that will facilitate the direct payment of authorized fees related to the representation of claimants for benefits before SSA and to issue a Form 1099-MISC, as required. The information will also be used to establish a link between each claim for benefits and the data that will be collected on the SSA-1699 and stored on an Appointed Representative Database. Respondents are attorneys and other individuals who represent claimants for benefits before SSA.

Type of Request: Request for a new information collection.

Number of Respondents: 10,000.

Frequency of Response: 25.

Number of Responses: 250,000.

Average Burden Per Response: 10 minutes.

Estimated Annual Burden: 41,667 hours.

7. Request for Appointed Representative's Direct Payment Information—0960-NEW. The SSA-1699 will be used to collect information from appointed representatives in order to facilitate the direct payment of authorized fees, including the possible use of direct deposit to a financial institution. SSA will also use the information provided to meet any requirement to issue a Form 1099-MISC when SSA has paid the representative aggregate fees of $600 or more in a taxable year. Business affiliation information will be used to determine if a Form 1099-MISC should be issued to a firm in those situations where the representative is associated with a firm as an employee or partner. Since the SSA-1699 is used as a registration form for the Appointed Representative Database, representatives will only need to fill it out once, unless they need to make a change to any of their information. This form is used in conjunction with the SSA-1695, which links the Appointed Representative Database with the individual claims the representatives handle. Respondents are attorneys or non-attorneys eligible for direct payment (i.e., have met certain prerequisites established by law).

Type of Request: Request for a new information collection.

Number of Respondents: 10,000.

Frequency of Response: 1.

Average Burden Per Response: 20 minutes.

Estimated Annual Burden: 3,333 hours.

8. Statement for Determining Continuing Eligibility, Supplemental Security Income Payment—20 CFR, Subpart D, 416.204—0960-0145. SSA uses form SSA-8202-BK to conduct low- and middle-error-profile (LEP-MEP) telephone or face-to-face redetermination (RZ) interviews with Supplemental Security Income (SSI) recipients and representative payees. The information collected during the interview is used to determine whether SSI recipients have met and continue to meet all statutory and regulatory requirements for SSI eligibility and whether they have been, and are still receiving, the correct payment amount. Form SSA-8202-OCR-SM (Optical Character Recognition Self-Mailer) collects information similar to that collected on Form SSA-8202-BK. However, it is used exclusively in LEP RZ cases on a 6-year cycle.

Forms | Respondents | Frequency of response | Average burden per response (minutes) | Estimated annual burden (hours)
SSA-8202-BK | 1,000,000 | 1 | 21 | 350,000
SSA-8202-OCR-SM | 700,000 | 1 | 11 | 128,333

Total Burden Hours for This Request: 478,333 hours.

9. Statement for Determining Continuing Eligibility, Supplemental Security Income Payment(s)—20 CFR Subpart B, 416.204—0960-0416. SSA uses the information collected on form SSA-8203-BK for high-error-profile (HEP) redeterminations of disability to determine whether SSI recipients have met and continue to meet all statutory and regulatory requirements for SSI eligibility and whether they have been, and are still receiving, the correct payment amount. The information is normally completed in field offices by personal contact (face-to-face or telephone interview) using the automated Modernized SSI Claim System (MSSICS). The respondents are recipients of Title XVI benefits.

Type of Request: Revision of an OMB-approved information collection.

Number of Respondents: 171,000.

Frequency of Response: 1.

Average Burden Per Response: 20 minutes.

Estimated Annual Burden: 57,000 hours.

10. Request for Internet Services—Authentication; Automated Telephone Speech Technology—Knowledge-Based Authentication—20 CFR 401.45—0960-0596. Individuals and third parties who request personal information from SSA records, or register with SSA in order to participate in SSA's online business services, are asked to provide certain identifying information to verify their identity. As an extra measure of protection, SSA asks requestors who use the Internet and telephone services to provide additional identifying information unique to those services so that SSA can authenticate their identities before releasing personal information. The respondents are current beneficiaries who are requesting personal information from SSA and/or individuals or third parties who are registering for SSA's online business services.

Type of Request: Revision of an OMB-approved information collection.

Forms | Number of respondents | Frequency of response | Average burden per response | Burden hours
Internet Requestors | 2,076,138 | 1 | 1½ Minutes | 51,903
Telephone Requestors | 889,488 | 1 | 1½ Minutes | 22,237
Totals: | 2,965,626 |  |  | 74,140

Estimated Annual Burden: 74,140 hours.

11. Integration Registration Services (IRES) System—20 CFR 401.45—0960-0626. The IRES System registers and authenticates businesses, employers and third parties with SSA, and issues them Personal Identification Numbers (PIN). These PINs will be used in the place of handwritten signatures on forms, when using SSA's Business Services Online. Respondents are employers and third party submitters of wage data, business entities providing tax payer identification information and other electronic records, and data exchange partners conducting business in support of SSA programs.

Type of Request: Revision of an OMB-approved information collection.

Number of Respondents: 460,000.

Frequency of Response: 1.

Average Burden Per Response: 2 minutes.

Estimated Annual Burden: 15,333 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Letter to Employer Requesting Wage Information—20 CFR 404.726—0960-0138. The information collected on Form SSA-L4201 is used by SSA to collect wage information from employers to establish and/or verify wage information for Supplemental Security Income (SSI) claimants and recipients. Form SSA-L4201 is also used to determine eligibility and proper payment for SSI applicants/recipients. The respondents are employers of applicants for and recipients of SSI payments.

Type of Request: Revision of an OMB-approved information collection.

Number of Respondents: 133,000.

Frequency of Response: 1.

Average Burden Per Response: 30 minutes.

Estimated Annual Burden: 66,500 hours.

2. The Mental Health Treatment Study (MHTS)—0960-NEW.

Background

As a result of advances in medical treatment, assistive devices, changes in the way those with disabilities are viewed, and legislation designed to assure access to employment, SSA is taking on an increasingly active role in assisting beneficiaries who want to return to work. As a result, SSA plans to develop the MHTS under section 234 of the Social Security Act (42 U.S.C. 434), which gives the Commissioner of Social Security the authority to carry out experiments and demonstration projects designed to determine the relative advantages and disadvantages of interventions that facilitate a beneficiary's return to work. Part of the Agency's role involves finding ways to promote work and increase independence among disability beneficiaries.

SSA received additional support for this study in February 2001, through President Bush's New Freedom Initiative—a comprehensive program whose primary goal is to promote the full participation of individuals with disabilities in all areas of society. The aim of the Initiative is to help Americans with disabilities by increasing their access to effective technologies, expanding educational opportunities, increasing the ability of Americans with disabilities to integrate into the workforce, and promoting increased access into daily community life. This initiative provided SSA with the support necessary to address the need to expand educational and employment opportunities for beneficiaries in an effort to provide supports and services that will enable them to maximize their self-sufficiency and potentially enter or reenter the workforce.

MHTS Collection

The MHTS is a randomized study designed to test the degree to which eliminating programmatic work disincentives, establishing an accurate diagnosis and delivering appropriate mental health and supported employment will lead to improved functioning and competitive employment among Social Security Disability Insurance (SSDI) beneficiaries with a primary impairment of schizophrenia or affective disorder. Study outcomes will assess the impact and cost-effectiveness of the intervention, including identification of specific factors within the interventions that result in positive employment outcomes. This information will enable SSA to further develop ways to improve services to current and future beneficiaries. The information will also be used to guide any potential changes to program rules to allow for better coordination among other Federal and State programs. Interested beneficiaries will be initially screened to confirm their ability to participate in the study. The actual study is scheduled to be conducted over a 2-year period with initial measurement through a baseline survey, followed by quarterly progress surveys and a final follow-up survey. For study purposes, participants will be divided into two groups: (A) Treatment Group and (B) Control Group. The respondents to the study are SSDI beneficiaries who meet the study criteria and elect to participate.

Type of Request: New information collection.

Collection Burden Estimate

Initial Screener Surveys
Questionnaire | Total number of respondents | Burden per response (minutes) | Frequency of response | Total annual burden hours
Screener | 3,050 | 4 | 1 | 203

Treatment Group Surveys
Questionnaire | Total number of respondents | Burden per response (minutes) | Frequency of response | Total annual burden hours
Baseline | 1,500 | 30 | 1 | 750
Quarterly | 1,500 | 25 | 7 | 4,375
Follow-up | 1,500 | 20 | 1 | 500
Total |  |  |  | 5,625

Control Group Surveys
Questionnaire | Total number of respondents | Burden per response (minutes) | Frequency of response | Total annual burden hours
Baseline | 1,500 | 30 | 1 | 750
Quarterly | 1,500 | 10 | 7 | 1,750
Follow-up | 1,500 | 20 | 1 | 500
Total |  |  |  | 3,000

Total Estimated Burden for All Study Activities
Participant | Number of respondents | Number of surveys per respondent | Total annual burden hours
Screener Survey | 3,050 | 1 | 203
Treatment Group (T) | 1,500 | 9 | 5,625
Control Group (C) | 1,500 | 9 | 3,000
Total | 6,050 |  | 8,828

III. The information collection listed below has been submitted to OMB for clearance. This notice has been previously published, and is being republished because changes have been made to the collection's burden estimate. Your comments on the information collection would be most useful if received by OMB and SSA within 60 days from the date of this publication. You can obtain a copy of the OMB clearance package by calling the SSA Reports Clearance Officer at 410-965-0454, or by writing to the address listed above.

Request for Reconsideration—20 CFR 404.907-404.921, 416.1407-416.1421, 408.1009—0960-0622. The information collected on Form SSA-561-U2 is used by SSA to document and initiate the reconsideration process for determining entitlement to Social Security benefits (Title II), SSI payments (Title XVI), Special Veterans Benefits (Title VIII), Medicare (Title XVIII) and for making initial determinations regarding Medicare Part B income-related premium subsidy reductions. The respondents are individuals filing for reconsideration.

Type of Request: Revision of an OMB-approved information collection.

Number of Respondents: 1,461,700.

Frequency of Response: 1.

Average Burden Per Response: 8 minutes.

Estimated Annual Burden: 194,893 hours.

Dated: May 3, 2006.
Elizabeth A. Davidson,
Reports Clearance Officer, Social Security Administration.

[FR Doc. E6-6992 Filed 5-8-06; 8:45 am]

BILLING CODE 4191-02-P